PRESIDIO TRUST

Mountain Lake Enhancement, The Presidio of San Francisco, California; Notice of Intent To Prepare an Environmental Assessment

AGENCY: The Presidio Trust.

ACTION: Notice of intent to prepare an environmental assessment for the proposed enhancement of Mountain Lake, The Presidio of San Francisco.

SUMMARY: The Presidio Trust (Trust) intends to prepare an environmental assessment (EA) for the proposed enhancement of Mountain Lake, three acres in size, located on The Presidio of San Francisco (Presidio). The EA will address the environmental consequences of the proposed enhancement and alternatives.

DATES: The Trust is inviting the public to participate in a public workshop to comment on the range of alternatives and the specific impacts to be evaluated in the EA. The public workshop will be held on March 8, 2000, from 6:00 p.m. to 9:00 p.m., at the Log Cabin, Storey Avenue, Fort Scott, the Presidio, California. The Trust is also inviting written comments. All comments must be received by April 7, 2000.

ADDRESSES: Written comments concerning this notice must be sent to John Pelka, NEPA Compliance Coordinator, The Presidio Trust, 34 Graham Street, P.O. Box 29052, San Francisco, CA 94129-0052. Fax: 415-561-5315. E-mail: jpelka@presidiotrust.gov.

FOR FURTHER INFORMATION CONTACT: John Pelka, NEPA Compliance Coordinator, The Presidio Trust, 34 Graham Street, P.O. Box 29052, San Francisco, CA 94129-0052. Telephone: 415-561-5300.

SUPPLEMENTARY INFORMATION: The Trust will prepare an EA for the enhancement of Mountain Lake, located to the east of the 15th Avenue entrance in the southern section of the Presidio. The lake encompasses approximately three acres, and the overall project area is approximately ten acres. A portion of the project area is within the City and County of San Francisco.

Improving water quality is a primary objective of the Mountain Lake enhancement planning process. Water quality has diminished over time due to human activities that resulted in the silting and filling in of nearly 40% of the lake and associated wetlands. The proposed Mountain Lake enhancement project may involve physical modification to the lake and environs to improve the lake's water quality and associated terrestrial and aquatic habitat. Alternatives currently being considered for the site include dredging of lake bottom sediments, mechanical aeration, removal of eucalyptus trees and ivy along the lake's edge, and restoration of native plant species in the vicinity of the lake. These alternatives were identified in part based on feedback received during public meetings and initial technical reports for the project site.

Notice of the workshop is being provided through this announcement, announcements in the Trust's monthly newsletter and other local media, direct mailing to nearby property owners, posting on the Trust's website (www.presidiotrust.gov), and other means.

Dated: February 10, 2000.
Karen A. Cook,
General Counsel.

[FR Doc. 00-3613 Filed 2-15-00; 8:45 am]

BILLING CODE 4310-4R-U